DEPARTMENT OF TRANSPORTATION

Coast Guard

[USCG 2000-8568]

Revised Recertification Procedure for Alternative Voluntary Advisory Groups in Lieu of Councils, Prince William Sound and Cook Inlet, AK

AGENCY: Coast Guard, DOT.

ACTION: Notice of policy.

SUMMARY: The Coast Guard announces a change of policy on recertification procedures for alternative voluntary advisory groups in lieu of councils at Prince William Sound and Cook Inlet regions of Alaska. Under the Oil Terminal and Oil Tanker Environmental Oversight and Monitoring Act of 1990, the Coast Guard must certify, on an annual basis, an alternative voluntary advisory group in lieu of a Regional Citizen's Advisory Council for Prince William Sound and Cook Inlet regions of Alaska. The new policy will require an applicant for recertification to provide the Coast Guard with comprehensive information every three years (triennially). For each of the two years between the triennial applications procedure, applicants need only submit a letter requesting recertification and describe any substantive changes to the information provided at the last triennial recertification.

DATES: This notice of policy is effective September 16, 2002.

ADDRESSES: The public docket for this notice is maintained by the 17th Coast Guard District. Comments and documents, as indicated in this notice, will become part of this docket and will be available for inspection by appointment. Appointments can be made by calling the Chief of Planning and Response, 17th Coast Guard District at (907) 463-2804. Comments regarding this notice or the Regional Citizen's Advisory Council can be sent to Commander 17th Coast Guard District, Office of Response (MOR) P.O. Box 25517 Juneau, AK, 99802.

FOR FURTHER INFORMATION CONTACT: If you have questions on this notice, please call Commander Spencer Wood at (907) 463-2804. If you have questions on viewing or submitting material to the docket, please call the Chief of Planning and Response, 17th Coast Guard District at (907) 463-2804.

SUPPLEMENTARY INFORMATION:

Background and Purpose

As part of the Oil Pollution Act of 1990, Congress passed the Oil Terminal and Oil Tanker Environmental Oversight and Monitoring Act of 1990 33 U.S.C. 2732) (the Act) to foster long-term partnership among industry, government, and local communities in overseeing compliance with environmental concerns in the operation of crude oil terminals and oil tankers.

Paragraph (o) of the Act permits an alternative voluntary advisory group to represent the communities and interests in the vicinity of the oil terminal facilities in Cook Inlet and Prince William Sound regions of Alaska in lieu of a Council of the type specified in 33 U.S.C. 2732(d), if certain conditions are met. The Act requires that each group enter into a contract to ensure annual funding and receive annual certification from the President that it fosters the general goals and purposes of the Act and is broadly representative of the community and interests in the vicinity of the terminal facilities. Accordingly, in 1991, the President granted certification to both the Cook Inlet Regional Citizen's Advisory Council (RCAC) and the Prince William Sound RCAC alternative voluntary advisory groups (advisory groups).

On October 18, 1991, the President delegated his authority under 33 U.S.C. 2732 (o) to the Secretary of Transportation in Executive Order 12777, section 8(g) (see 56 FR 54757; Oct. 22, 1991). On March 3, 1992, the Secretary redelegated that authority to the Commandant of the Coast Guard (see 57 FR 8582; March 11, 1992). The Commandant redelegated that authority to the Chief, Office of Marine Safety, Security and Environmental Protection (G-M) on March 19, 1992 (letter #5402). The successor to that officer, the Assistant Commandant for Marine Safety and Environmental Protection (G-M) redelegated that authority to the Commander, Seventeenth U.S. Coast Guard District on February 26, 1999 (letter #16450).

The Coast Guard published guidelines on December 31, 1992 (57 FR 62600), to assist groups seeking recertification under the Act. We issued a policy statement on July 7, 1993 (58 FR 36504), to clarify the factors that we would be considering in making our determination as to whether advisory groups should be certified in accordance with the Act; and the procedures, which we would follow in meeting our certification responsibilities under the Act. Since then, both the Prince William Sound and Cook Inlet advisory groups have been recertified annually. Based on the experiences of the recertification processes conducted from 1993 to 2000, as well as the evolution of the advisory groups from new, untested organizations to stable, functioning organizations, the Coast Guard believes the recertification procedure should be streamlined, reducing the annual administrative burden placed on the advisory groups, the Coast Guard, and the public. Hence, the Coast Guard published a notice of proposal to change procedure; request for comments on December 28, 2000 (65 FR 82451) that asked the public to comment on the proposal to change recertification procedure. Three commenters, including the two advisory groups, submitted comments. All three commenters endorsed the proposed procedural changes for certification. All three commenters agreed that the current annual recertification process involves a lot of time and effort. The commenters also agreed that much of the information that is required remains unchanged from year to year, thus rendering it redundant.

However, one commenter proposed a minor modification to the clause within the proposal that states that “for each of the 2 years between the triennial application procedure, applicants should * * * describe any substantive changes to the information provided at the last triennial recertification.” The commenter said that, if this clause is interpreted literally, this provision would appear to require that changes occurring during the first off-year, and described in the application for that year, be described again in the application for the second off-year. The commenter stated that this would be necessary to ensure that all changes since the last triennial recertification were captured in each off-year application. The commenter suggested instead that each off year application be required to capture only changes since the last recertification, without regard to whether it was a triennial recertification or an off-year recertification. This commenter added that a simplified process of recertification would:

• Materially reduce the administrative burden on the Coast Guard and other parties to the process.

• Preserve an appropriate degree of oversight of RCAC activities by the Coast Guard.

• Provide appropriate opportunities for public comment on RCAC activities.

Our experience gathered from 1993 to present has shown us that the majority of information submitted by advisory groups seeking recertification remains unchanged year-to-year and both the government and the public would benefit from a streamlined administrative procedure. Based on the comments received and on that experience, we believe an applicant for recertification should provide the Coast Guard with a comprehensive application once every 3 years (triennially). For each of the 2 years between the triennial application procedures, applicants should submit a letter requesting recertification and describe any substantive changes to the information provided at the last triennial recertification. We propose that this procedure commences with the 2002 certification season, meaning that applicants seeking recertification in 2002 need only submit the streamlined application and that we will not solicit public comments prior to recertification during 2002. The triennial review process will take place in 2005. The Coast Guard will still accept public comments whenever submitted and these comments will be available for viewing by making arrangements with the office listed under ADDRESSES.

Dated: September 6, 2002.
Joseph J. Angelo,
Director of Standards, Marine Safety, Security and Environmental Protection.

[FR Doc. 02-23481 Filed 9-13-02; 8:45 am]

BILLING CODE 4910-15-P